ELECTION ASSISTANCE COMMISSION

Notice of Agency Organization, Procedure, and Practice; New Agency Seal

AGENCY: U.S. Election Assistance Commission.

ACTION: Notice.

SUMMARY: The EAC is implementing a new official agency seal for use on all agency internal and external correspondence, communications, media, materials, and methods of identification.

DATES: The new agency seal is effective on March 15, 2021.

FOR FURTHER INFORMATION CONTACT: Kristen Muthig, Telephone: (202) 897-9285, Email: kmuthig@eac.gov.

SUPPLEMENTARY INFORMATION: In 2021, the U.S. Election Assistance Commission (EAC) underwent the process to rebrand and develop a new seal for the agency to better reflect the mission and work of the EAC. Since the agency was established by the Help America Vote Act of 2002 (HAVA), the EAC used a variation of the Great Seal of the United States for its logo.

As the new seal was developed, the following considerations were made and elements incorporated:

• The seal reflects the EAC's testing and certification of voting machines by showing a circuit board.

• The circuit board diodes incorporate the word “VOTE” in Braille reflecting the importance of accessibility for voters with disabilities and EAC's role in ensuring all Americans can vote privately and independently.

• The flag reflects democracy, the EAC as a federal agency, and voters' rights.

• The three stars in the flag represent the three main functions of the EAC: Clearinghouse, Testing and Certification, Research.

• The ballot box reflects the various options of voting and the EAC's mission to assist with election administration best practices.

Permission is required for the replication or use of this seal. The seal is effective on March 15, 2021. The EAC believes that delaying the effective date is unnecessary as this is a notice regarding agency organization, procedure, and practice and there are no changes to public access to the agency or agency services provided to the public. Additionally, the public will benefit immediately from recognition of the new official logo of the EAC on official documents and materials.

Amanda Joiner,
Associate Counsel, U.S. Election Assistance Commission.

[FR Doc. 2021-05417 Filed 3-15-21; 8:45 am]

BILLING CODE P